DEPARTMENT OF ENERGY

Federal Energy Regulatory Commission

[Project No. 13234-001]

City and Borough of Sitka; Notice Soliciting Scoping Comments for an Applicant Prepared Environmental Assessment Using the Alternative Licensing Process

June 17, 2010.

a. Type of Application: Alternative Licensing Process

b. Project No.: 13234-001

c. Applicant: City and Borough of Sitka

d. Name of Project: Takatz Lake Hydroelectric Project

e. Location: On the Takatz Lake and Takatz Creek, approximately 20 miles east of the City of Sitka, Alaska, on the east side of Baranof Island. The project would occupy lands of the Tongass National Forest, administered by the U.S. Forest Service.

f. Filed Pursuant to: Federal Power Act, 16 U.S.C. 791(a)-825(r).

g. Applicant Contact: Christopher Brewton, Utility Manager, City and Borough of Sitka, Electric Department, 105 Jarvis Street, Sitka, Alaska 99835; (907) 747-1870, e-mail: chrisb@cityofsitka.com.

h. FERC Contact: Joseph Adamson, at (202) 502-2085; or e-mail joseph.adamson@ferc.gov.

i. Deadline for filing scoping comments: July 19, 2010

All documents (original and eight copies) should be filed with: Kimberly D. Bose, Secretary, Federal Energy Regulatory Commission, 888 First Street, NE., Washington, DC 20426.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site (http://www.ferc.gov/docs-filing/ferconline.asp) under the “e-filing” link. For a simpler method of submitting text only comments, click on “Quick Comment.”

j. The Takatz Lake project would consist of: (1) A newly constructed concrete arch dam with a crest elevation of 1,052 feet mean sea level (msl), a spillway elevation of 1,040 feet msl, and a structural height of 200 feet; (2) a 30-foot-high secondary saddle dam; (3) an increase in the Takatz Lake impoundment with a 740-acre surface area and a 124,000 acre-feet storage capacity at spillway elevation of 1,040 feet msl; (4) an intake structure for a 2,800-foot-long, 6.5-foot by 7-foot modified unlined horseshoe tunnel, leading to a 72-inch-diameter 1,000-foot-long steel penstock; (5) a 4,000 square foot powerhouse: (6) two Francis-type generating units, having a total installed capacity of 27.6 megawatts; (7) an approximately 4-mile-long access road; (8) an approximately 21-mile-long, 115 kilovolt (kv) or 138 kv transmission line that consists of either a combination of a submerged marine and lake, overhead, and underground segments (Marine Alternative Segment), or a combination of a submerged lake, overhead, and underground segments (Overland Alternative Segment); and (9) other appurtenant equipment.

k. Scoping Process: The City and Borough of Sitka (City) is using the Federal Energy Regulatory Commission's (Commission) alternative licensing process (ALP). Under the ALP, the City will prepare an Applicant Prepared Environmental Assessment (APEA) and license application for the Takatz Lake Hydroelectric Project.

Although it is our intent to prepare an EA, there is a possibility the Commission will prepare an Environmental Impact Statement (EIS) for the project.

The project as proposed in Scoping Document 2 (SD2) differs from the City's proposal described in their Pre-application document and Scoping Document 1, filed March, 20, 2009, and August 27, 2009, respectfully. Therefore, to support and assist our environmental review, we are conducting additional paper scoping on the current proposal to ensure that all pertinent issues and alternatives are identified and analyzed, and that the EA is thorough and balanced. Commission staff does not propose to conduct any on-site scoping meetings at this time. Instead, we are soliciting comments, recommendations, and information, on the Scoping Document 2 (SD2) issued on June 16, 2010.

Copies of the SD2 outlining the subject areas to be addressed in the EA were distributed to the parties on the Commission's mailing list and the applicant's distribution list. Copies of the SD2 may be viewed on the Web at http://www.ferc.gov using the “eLibrary” link. Enter the docket number excluding the last three digits in the docket number field to access the document. For assistance, call 1-866-208-3676 or for TTY, (202) 502-8659.

Kimberly D. Bose,
Secretary.

[FR Doc. 2010-15389 Filed 6-24-10; 8:45 am]

BILLING CODE 6717-01-P